NUCLEAR REGULATORY COMMISSION

[NRC-2016-0001]

Sunshine Act Meeting Notice

DATES: February 8, 15, 22, 29, March 7, 14, 2016.

PLACE: Commissioners' Conference Room, 11555 Rockville Pike, Rockville, Maryland.

STATUS: Public and Closed.

Week of February 8, 2016

There are no meetings scheduled for the week of February 8, 2016.

Week of February 15, 2016—Tentative

There are no meetings scheduled for the week of February 15, 2016.

Week of February 22, 2016—Tentative

Tuesday, February 23, 2016

9:30 a.m. Discussion of Management Issues (Closed—Ex. 2)

Thursday, February 25, 2016

9:00 a.m. Strategic Programmatic Overview of the Fuel Facilities and the Nuclear Material Users Business Lines (Public Meeting); (Contact: Anita Gray: 301-415-7036)

This meeting will be webcast live at the Web address— http://www.nrc.gov/.

Week of February 29, 2016—Tentative

Thursday, March 3, 2016

9:30 a.m. Briefing on NRC International Activities (Closed—Ex. 1&9)

Friday, March 4, 2016

10:00 a.m. Meeting with Advisory Committee on Reactor Safeguards (Public Meeting); (Contact: Mark Banks: 301-415-3718)

This meeting will be webcast live at the Web address— http://www.nrc.gov/.

Week of March 7, 2016—Tentative

There are no meetings scheduled for the week of March 7, 2016.

Week of March 14, 2016—Tentative

Tuesday, March 15, 2016

9:00 a.m. Briefing on Power Reactor Decommissioning Rulemaking (Public Meeting); (Contact: Jason Carneal: 301-415-1451).

This meeting will be webcast live at the Web address— http://www.nrc.gov/.

Thursday, March 17, 2016

9:00 a.m. Meeting with the Advisory Committee on the Medical Uses of Isotopes (Public Meeting); (Contact: Douglas Bollock: 301-415-6609).

This meeting will be webcast live at the Web address— http://www.nrc.gov/.

* * * * *

The schedule for Commission meetings is subject to change on short notice. For more information or to verify the status of meetings, contact Denise McGovern at 301-415-0681 or via email at Denise.McGovern@nrc.gov.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g., braille, large print), please notify Kimberly Meyer, NRC Disability Program Manager, at 301-287-0739, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: February 3, 2016.
Denise McGovern,
Policy Coordinator, Office of the Secretary.

[FR Doc. 2016-02392 Filed 2-3-16; 4:15 pm]

BILLING CODE 7590-01-P